DEPARTMENT OF JUSTICE

Notice of Lodging of Consent Decree Pursuant to the Comprehensive Environmental Response Compensation and Liability Act (“CERCLA”)

Pursuant to section 122(d) of CERCLA, 42 U.S.C. 9622(d), and 28 CFR 50.7 notice is hereby given that on January 13, 2003, a proposed Consent Decree in United States v. Regional Refuse District No. 1, et al., Civ. No. 3:03CV84 (PCD), was lodged with the United States District Court for the District of Connecticut.

In this action the United States sought recovery of costs incurred, and injunctive relief requiring performance of response actions at the Barkhamsted-New Hartford Landfill Superfund Site located adjacent to and southwest of Route 44, in the Towns of Barkhamsted and New Hartford, Connecticut. The Consent Decree requires that the settling parties pay $483,304.55 in reimbursement of past response costs; implement EPA's September 28, 2001 Record of Decision (“ROD”); pay the governments' future oversight costs; and implement certain institutional controls, including recordation of land/water use restrictions.

The Department of Justice will receive, for a period of thirty (30) days from the date of this publication, comments relating to the Consent Decree. Comments should be addressed to the Assistant Attorney General, Environment and Natural Resources Division, P.O. Box 7611, U.S. Department of Justice, Washington, DC 20044-7611, and should refer to United States v. Regional Refuse District No. 1, et al., Civ. No. 3:03CV84 (PCD), D.J. Ref. No. 90-11-2-830/1.

The Consent Decree may be examined at the Office of the United States Attorney, 157 Church Street, 23rd Floor, New Haven, CT, and at U.S. EPA Region I, 1 Congress Street, Suite 1100, Boston, MA. A copy of the Consent Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $58.50 (25 cents per page reproduction cost) payable to the U.S. Treasury. In requesting a copy exclusive of exhibits, defendants' signatures, and appendices, please enclose a check in the amount of $11.25 (25 cents per page reproduction cost) payable to the U.S. Treasury.

Ronald Gluck,
Assistant Section Chief, Environmental Enforcement Section, Environment and Natural Resources Division.

[FR Doc. 03-2831 Filed 2-5-03; 8:45 am]

BILLING CODE 4410-15-M